DEPARTMENT OF ENERGY

Federal Energy Regulatory Commission

[Docket No. CP09-157-000]

El Paso Natural Gas Company; Notice of Request Under Blanket Authorization

April 21, 2009.

Take notice that on April 16, 2009, El Paso Natural Gas Company (EPNG), PO Box 1087, Colorado Springs, Colorado 80944, filed a prior notice request pursuant to parts 157.205 and 157.208 of the Commission's regulations under the Natural Gas Act (NGA) and EPNG's blanket certificate issued in Docket No. CP82-435-000, for authorization to increase the certificated Maximum Allowable Operating Pressure (MAOP) of its 6⅝ inch outer diameter Mesa Irrigation Area Line (Line No. 2152) located in Yuma County, Arizona, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, EPNG proposes to uprate the MAOP of Line No. 2152 from 250 pounds per square in gauge (psig) to 450 psig to provide a higher delivery pressure to Southwest Gas Corporation (SWG) to test its downstream facilities and to modestly increase its contract pressure. EPNG states that it was informed by SWG that it seeks to increase the operating pressure of its local distribution system and asked EPNG to provide a delivery pressure of approximately 450 psig to allow SWG to pressure test its system. EPNG asserts that, after successfully testing its system, SWG has requested a minimum delivery pressure increase under its transportation service agreement from 250 psig to 265 psig on a day-to-day basis. EPNG states that it would be able to immediately meet the higher pressures requested by SWG given that EPNG's upstream Line No. 2123 already operates at higher pressure and has an MAOP of 809 psig. EPNG asserts that it would not require any new equipment installations and would only have to change the settings on its existing regulation equipment to permit the higher pressure operation.

Any questions regarding the application should be directed to Richard Derryberry, Director, Regulatory Affairs Department, El Paso Natural Gas Company, P.O. Box 1087, Colorado Springs, Colorado 80944, at (719) 520-3782.

Any person may, within 60 days after the issuance of the instant notice by the Commission, file pursuant to Rule 214 of the Commission's Procedural Rules (18 CFR 385.214) a motion to intervene or notice of intervention. Any person filing to intervene or the Commission's staff may, pursuant to Part 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-9603 Filed 4-27-09; 8:45 am]

BILLING CODE 6717-01-P